DEPARTMENT OF DEFENSE

Office of the Secretary

Meeting of the Pentagon Memorial Design Competition Jury

AGENCY: Director, Administration and Management, Department of Defense.

ACTION: Notice of Advisory Committee meeting.

SUMMARY: The Pentagon Memorial Design Competition Jury will meet in closed session on February 21, 2003. The purpose of the meeting is for the Jury to make its final concept recommendation.

The Jury was chartered on August 26, 2002, by the Department of Defense to review and evaluate the concepts submitted in response to the Baltimore District, Corps of Engineers announcement of the competition for a Pentagon Memorial to the victims of the September 11, 2001 terrorist attack on the Pentagon.

In accordance with the Federal Advisory Committee Act, Public Law No. 92-463, as amended [5 U.S.C., Appendix II 1982], discussion of matters as covered by 5 U.S.C. 552b(c)(4), (6), and (9)(B) (1988), will take place throughout the meeting, and that, accordingly, the meeting will be closed to the public.

Due to extraordinary legal issues encountered during the meeting planning phase, this notice is being published after the meeting was held.

DATES: Friday, February 21, 2003—9 a.m.-5 p.m.

ADDRESSES: National Building Museum, 401 F Street NW., Washington, DC 20001.

FOR FURTHER INFORMATION CONTACT: Marilyn Jajko, Program Manager, Real Estate and Facilities, Washington Headquarters Services, on 703-614-4893.

Dated: February 21, 2003.
Patricia L. Toppings,
Alternate Federal Register Liaison Officer, Department of Defense.

[FR Doc. 03-5533 Filed 3-7-03; 8:45 am]

BILLING CODE 5001-08-M